DEPARTMENT OF ENERGY

Federal Energy Regulatory Commission

[Project No. 2413-124; Georgia]

Georgia Power Company; Notice of Teleconference for Tribal Consultation Meeting

On December 3, 2019, Mr. Turner W. Hunt, Archaeological Technician of the Muscogee (Creek) Nation sent an email requesting consultation regarding the relicensing of the Wallace Hydroelectric Project. Commission Staff will hold a teleconference with representatives of the Muscogee (Creek) Nation to learn more about the tribe's concerns. The teleconference will take place at 2:00 p.m. Eastern Standard Time on Thursday, March 12, 2020.

This teleconference is limited to members of the invited tribe and Commission staff. Interested parties may attend the teleconference as observers only. A summary of the meeting will be prepared and posted in the above-referenced docket on the Commission's eLibrary system.

To receive specific instructions on how to participate, please contact Dustin Wilson at dustin.wilson@ferc.gov, or (202) 502-6528 by March 10, 2020.

Dated: February 25, 2020.
Kimberly D. Bose,
Secretary.

[FR Doc. 2020-04217 Filed 2-28-20; 8:45 am]

BILLING CODE 6717-01-P